DEPARTMENT OF ENERGY

Federal Energy Regulatory Commission

[Docket No. RP96-383-056]

Dominion Transmission, Inc.; Notice of Negotiated Rate Filing

May 11, 2004.

Take notice that on May 6, 2004, Dominion Transmission Inc. (DTI) tendered for filing as part of its FERC Gas Tariff, Third Revised Volume No. 1, Fifth Revised Sheet No. 1402, with an effective date of April 1, 2004, to correctly reflect the terms of an existing negotiated transaction with Rochester Gas and Electric Corporation (RG&E).

DTI states that the purpose of this filing is to amend its filing of April 30, 2004, in which DTI proposed to clarify an inconsistency to accurately reflect the on-going, year-to-year term of its negotiated rate agreement with RG&E, to include the clean copy of the revised tariff sheet that was inadvertently omitted from the original filing.

DTI states that copies of its letter of transmittal and enclosures have been served upon DTI's customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the e-Filing link.

Linda Mitry,
Acting Secretary.

[FR Doc. E4-1163 Filed 5-14-04; 8:45 am]

BILLING CODE 6717-01-P